DEPARTMENT OF COMMERCE

National Oceanic and Atmospheric Administration

RIN: 0648-XG55

Fisheries of the South Atlantic and Gulf of Mexico; South Atlantic Fishery Management Council (SAFMC); Public Meeting; Correction

AGENCY: National Marine Fisheries Service (NMFS), National Oceanic and Atmospheric Administration (NOAA), Commerce.

ACTION: Notice of change of location for the SAFMC Scientific and Statistical Committee (SSC) meeting.

SUMMARY: The meeting scheduled for April 29-30, 2008 will be held at the Hilton Garden Inn, 5265 International Boulevard, North Charleston, SC 29418, not at 4055 Faber Place Drive as originally scheduled. The SAFMC will hold a meeting of its SSC to orient new members and introduce them to the Council system. See SUPPLEMENTARY INFORMATION.

DATES: The SSC meeting will be held April 29-30, 2008.

ADDRESSES: The SSC meeting will be held at the Hilton Garden Inn, 5265 International Boulevard, North Charleston, SC 29418, telephone: (843) 308-9330.

FOR FURTHER INFORMATION CONTACT: Kim Iverson, Public Information Officer, 4055 Faber Place Drive, Suite 201, North Charleston, SC 29405; telephone: (843) 571-4366; e-mail: Kim.Iverson@safmc.net.

SUPPLEMENTARY INFORMATION: The original noticed published in the Federal Register on March 24, 2008 (73 FR 15488).

Under the Magnuson-Stevens Act, the SSC is the body responsible for reviewing the Council's scientific materials. The South Atlantic Fishery Management Council will hold a meeting of its SSC to provide orientation for new members appointed in March 2008. Members will be briefed on SAFMC operating procedures and administrative issues, and discuss the tasks and responsibilities of SSC membership.

SSC Meeting Schedule:

April 29, 2008, 1 p.m. - 5 p.m., April 30, 2008, 9 a.m. - 1 p.m.

Special Accommodations

This meeting is physically accessible to people with disabilities. Requests for sign language interpretation or other auxiliary aids should be directed to the Council office (see ADDRESSES) at least 10 business days prior to the meeting.

Dated: April 1, 2008.
Tracey L. Thompson,
Acting Director, Office of Sustainable Fisheries, National Marine Fisheries Service.

[FR Doc. E8-6983 Filed 4-3-08; 8:45 am]

BILLING CODE 3510-22-S